DEPARTMENT OF HOUSING AND URBAN DEVELOPMENT

[Docket No. FR-4529-N-08]

Notice of Submission of Proposed Information Collection to OMB; Emergency Comment Request Affordable Communities Initiative

AGENCY: Office of the General Counsel.

ACTION: Notice.

SUMMARY: The proposed information collection requirement described below has been submitted to the Office of Management and Budget (OMB) for emergency review and approval, as required by the Paperwork Reduction Act. The Department is soliciting public comments on the subject proposal.

DATES: Comments Due Date: June 22, 2004.

ADDRESSES: Interested persons are invited to submit comments regarding this proposal. Comments must be received within seven (7) days from the date of this Notice. Comments should refer to the proposal by name and should be sent to: Mark D. Menchik, HUD Desk Officer, Office of Management and Budget, New Executive Office Building, Washington, DC 20503, Mark_D._Menchik@omb.eop.gov. Fax: (202) 395-6974.

FOR FURTHER INFORMATION CONTACT: Wayne Eddins, Reports Management Officer, Department of Housing and Urban Development, 451 Seventh Street, SW., Washington, DC 20410, telephone (202) 708-0050. This is not a toll-free number. Copies of available documents submitted to OMB may be obtained from Mr. Eddins.

SUPPLEMENTARY INFORMATION: This notice informs the public that the Department of Housing and Urban Development (HUD) has submitted to OMB, for emergency review and processing under the Paperwork Reduction Act, an information collection package with respect to HUD's Affordable Communities Award, a non-monetary award designed to acknowledge and honor those jurisdictions or communities that are expanding affordable housing opportunities by reducing regulatory barriers and creating an environment supportive of the construction and rehabilitation of affordable housing.

In June 2003, HUD announced a new initiative, America's Affordable Communities Initiative (Initiative). The Initiative focuses on breaking down regulatory barriers that impede the production or rehabilitation of affordable housing. As part of this initiative, HUD is examining federal, state and local regulations to identify those regulations that present significant barriers to the production or rehabilitation of affordable housing. HUD is currently reviewing its own regulations to identify regulatory barriers to affordable housing that HUD can and should change. HUD's intention is to lead by example. Another effort of the Initiative includes providing incentives to state and local governments to remove regulatory barriers. As part of HUD's FY2004 SuperNOFA, HUD included, as a policy priority, the removal of regulatory barriers. An applicant that meets the criteria of a policy priority is eligible to receive higher points. The removal of regulatory barriers will not only be a policy priority in HUD's FY2004 SuperNOFA but in other FY2004 NOFAs published independently from the SuperNOFA.

This non-monetary award announcement is designed to present an additional incentive to states, local, and tribal governments to become active in removing barriers to affordable housing to the extent feasible. This award will serve to publicly recognize jurisdictions or communities that have taken a leadership role in reexamining their existing regulatory systems and have taken the necessary steps to promote the construction and development of affordable housing.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Affordable Communities Award.

Office: Office of the General Counsel.

OMB Control Number: 2510—

Description of the need for the information and proposed use:

The information presented by applicants for the award will be used to select the award winners. The information presented by the applicants also should provide the Initiative with good examples of how regulatory barriers are removed and affordable housing made possible or increased in communities across America.

Form Number: No form number.

Members of affected public: States and local jurisdictions (cities, counties and towns, townships and incorporated municipalities.

Estimation of the total numbers of hours needed to prepare the information collection including number of respondents, frequency of response, and hours of response:

Number of respondents | x | Frequency of response | = | Hours per response | = | Burden hours
300 |  | 1 |  | 8 |  | 2,400

Total Estimated Burden Hours: 2,400.

Status: New.

Authority: The Paperwork Reduction Act of 1995, 44 U.S.C. Chapter 35, as amended.

Dated: June 10, 2004.
Camille E. Acevedo,
Associate General Counsel for Legislation and Regulations.

[FR Doc. 04-13432 Filed 6-14-04; 8:45 am]

BILLING CODE 4210-67-P